DEPARTMENT OF EDUCATION

[Docket No.: ED-2024-SCC-0009]

Agency Information Collection Activities; Submission to the Office of Management and Budget for Review and Approval; Comment Request; State Educational Agency (SEA) Procedures for Adjusting ED-Determined Title I Allocations to Local Education Agencies (LEAs)

AGENCY: Office of the Elementary and Secondary Education (OESE), Department of Education (ED).

ACTION: Notice.

SUMMARY: In accordance with the Paperwork Reduction Act (PRA) of 1995, the Department is proposing an extension without change of a currently approved information collection request (ICR).

DATES: Interested persons are invited to submit comments on or before April 22, 2024.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Todd Stephenson, 202-205-1645.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: SEA Procedures for Adjusting ED-Determined Title I Allocations to Local Education Agencies (LEAs).

OMB Control Number: 1810-0622.

Type of Review: An extension without change of a currently approved ICR.

Respondents/Affected Public: State, local, and Tribal governments.

Total Estimated Number of Annual Responses: 52.

Total Estimated Number of Annual Burden Hours: 2,080.

Abstract: We are requesting a three-year extension of the current paperwork clearance package (OMB number 1810-0622) related to State educational agency (SEA) procedures for adjusting Title I, Part A local educational agency (LEA) allocations determined by the U.S. Department of Education (ED).

Title I, part A of the Elementary and Secondary Education Act of 1965, as amended (ESEA), requires ED to allocate Basic Grants, Concentration Grants, Targeted Grants, and Education Finance Incentive Grants directly to LEAs. (See sections 1124(a)(2), 1124A(a), 1125(a), (b), and (c)(2), and 1125A(c) and (d)(1)(B), (2)(B), and (3)(B) of the statute at https://uscode.house.gov/browse/prelim@title20/chapter70/subchapter1/partA&edition=prelim.) Title I, part A allocations are based primarily on poverty data provided by the Census Bureau and reflect a national list of LEAs that is generally two years old. For example, the list of LEAs used for calculating school year (SY) 2023-2024 allocations is based on LEAs that existed in SY 2021-2022. Because the list of LEAs used by ED in determining LEA allocations does not match the current universe of LEAs in many States, SEAs must adjust EDs allocations to account for district boundary changes and newly-created LEAs that are eligible for title I, part A funds but did not receive an allocation under ED calculations.

Dated: March 18, 2024.
Kun Mullan,
PRA Coordinator, Strategic Collections and Clearance, Governance and Strategy Division, Office of Chief Data Officer, Office of Planning, Evaluation and Policy Development.

[FR Doc. 2024-05983 Filed 3-20-24; 8:45 am]

BILLING CODE 4000-01-P